DEPARTMENT OF HOMELAND SECURITY

Federal Emergency Management Agency

[Docket ID FEMA-2024-0002; Internal Agency Docket No. FEMA-B-2451]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Online location of letter of map revision | Date of modification | Community No.
Arizona:
Coconino | City of Flagstaff (23-09-0441P) | The Honorable Becky Daggett, Mayor, City of Flagstaff, 211 West Aspen Avenue, Flagstaff, AZ 86001 | Community Development Department, 211 West Aspen Avenue, Flagstaff, AZ 86001 | https://msc.fema.gov/portal/advanceSearch | Oct. 15, 2024 | 040020
Maricopa | City of El Mirage (23-09-0223P) | The Honorable Alexis Hermosillo, Mayor, City of El Mirage, 10000 North El Mirage Road, El Mirage, AZ 85335 | City Hall, 10000 North El Mirage Road, El Mirage, AZ 85335 | https://msc.fema.gov/portal/advanceSearch | Oct. 11, 2024 | 040041
Maricopa | City of Glendale (23-09-0794P) | The Honorable Jerry P. Weiers, Mayor, City of Glendale, 5850 West Glendale Avenue, Glendale, AZ 85301 | City Hall, 5850 West Glendale Avenue, Glendale, AZ 85301 | https://msc.fema.gov/portal/advanceSearch | Sep. 27, 2024 | 040045
Maricopa | City of Surprise (23-09-0744P) | The Honorable Skip Hall, Mayor, City of Surprise, 16000 North Civic Center Plaza, Suprise, AZ 85374 | Public Works Department, Engineering Development Services, 16000 North Civic Center Plaza, Suprise, AZ 85374 | https://msc.fema.gov/portal/advanceSearch | Oct. 25, 2024 | 040053
Maricopa | Town of Youngtown (23-09-0223P) | The Honorable Michael LeVault, Mayor, Town of Youngtown, 12030 Clubhouse Square, Youngtown, AZ 85363 | Town Hall, 12030 Clubhouse Square, Youngtown, AZ 85363 | https://msc.fema.gov/portal/advanceSearch | Oct. 11, 2024 | 040057
Maricopa | Unincorporated Areas of Maricopa County (23-09-0223P) | The Honorable Jack Sellers, Chair, Board of Supervisors, Maricopa County, 301 West Jefferson Street, 10th Floor, Phoenix, AZ 85003 | Flood Control District of Maricopa County, 2801 West Durango Street, Phoenix, AZ 85009 | https://msc.fema.gov/portal/advanceSearch | Oct. 11, 2024 | 040037
Maricopa | Unincorporated Areas of Maricopa County (23-09-0794P) | The Honorable Jack Sellers, Chair, Board of Supervisors, Maricopa County, 301 West Jefferson, 10th Floor, Phoenix, AZ 85003 | Flood Control District of Maricopa County, 2801 West Durango Street, Phoenix, AZ 85009 | https://msc.fema.gov/portal/advanceSearch | Sep. 27, 2024 | 040037
Pima | Town of Oro Valley (22-09-1051P) | The Honorable Joe Winfield, Mayor, Town of Oro Valley, 11000 North La Cañada Drive, Oro Valley, AZ 85737 | Planning and Zoning Department, 11000 North La Cañada Drive, Oro Valley, AZ 85737 | https://msc.fema.gov/portal/advanceSearch | Oct. 2, 2024 | 040109
Pima | Unincorporated Areas of Pima County (22-09-1051P) | The Honorable Adelita Grijalva, Chair, Board of Supervisors, Pima County, 33 North Stone Avenue, 11th Floor, Tucson, AZ 85701 | Pima County Flood Control District, 201 North Stone Avenue, 9th Floor, Tucson, AZ 85701 | https://msc.fema.gov/portal/advanceSearch | Oct. 2, 2024 | 040073
Yavapai | Town of Prescott Valley (23-09-1074P) | The Honorable Kell Palguta, Mayor, Town of Prescott Valley, 7501 East Skoog Boulevard, 4th Floor, Prescott Valley, AZ 86314 | Town Hall, Engineering Division, 7501 East Civic Circle, Prescott Valley, AZ 86314 | https://msc.fema.gov/portal/advanceSearch | Sep. 13, 2024 | 040121
California:
Riverside | City of Corona (23-09-0763P) | The Honorable Tom Richins, Mayor, City of Corona, 400 South Vicentia Avenue, Corona, CA 92882 | Public Works Department, 400 South Vicentia Avenue, Corona, CA 92882 | https://msc.fema.gov/portal/advanceSearch | Oct. 29, 2024 | 060250
Riverside | City of Hemet (23-09-0848P) | The Honorable Joe Males, Mayor, City of Hemet, 445 East Florida Avenue, Hemet, CA 92543 | Engineering Department, 510 East Florida Avenue, Hemet, CA 92543 | https://msc.fema.gov/portal/advanceSearch | Sep. 27, 2024 | 060253
Riverside | City of Perris (23-09-1357P) | The Honorable Michael M. Vargas, Mayor, City of Perris, 101 North D Street, Perris, CA 92570 | Engineering Department, 24 South D Street, Suite 100, Perris, CA 92570 | https://msc.fema.gov/portal/advanceSearch | Sep. 23, 2024 | 060258
Riverside | Unincorporated Areas of Riverside County (23-09-0848P) | The Honorable Chuck Washington, Chair, Board of Supervisors, Riverside County, 4080 Lemon Street, 5th Floor, Riverside, CA 92501 | Riverside County, Flood Control and Water Conservation District, 1995 Market Street, Riverside, CA 92501 | https://msc.fema.gov/portal/advanceSearch | Sep. 27, 2024 | 060245
San Diego | City of San Diego (23-09-1115P) | The Honorable Todd Gloria, Mayor, City of San Diego, 202 C Street, 11th Floor, San Diego, CA 92101 | Development Services Department, 1222 1st Avenue, MS 301, San Diego, CA 92101 | https://msc.fema.gov/portal/advanceSearch | Nov. 5, 2024 | 060295
San Diego | Unincorporated Areas of San Diego County (23-09-1385P) | The Honorable Nora Vargas, Chair, Board of Supervisors, San Diego County, 1600 Pacific Highway, Room 335, San Diego, CA 92101 | San Diego County Flood Control District, Department of Public Works, 5510 Overland Avenue, Suite 410, San Diego, CA 92123 | https://msc.fema.gov/portal/advanceSearch | Nov. 6, 2024 | 060284
San Mateo | City of Redwood City (23-09-0500P) | The Honorable Jeff Gee, Mayor, City of Redwood City, 1017 Middlefield Road, Redwood City, CA 94063 | City Hall, 1017 Middlefield Road, Redwood City, CA 94063 | https://msc.fema.gov/portal/advanceSearch | Oct. 2, 2024 | 060325
Ventura | City of Simi Valley (23-09-0719P) | The Honorable Fred D. Thomas, Mayor, City of Simi Valley, 2929 Tapo Canyon Road, Simi Valley, CA 93063 | City Hall, 2929 Tapo Canyon Road, Simi Valley, CA 93063 | https://msc.fema.gov/portal/advanceSearch | Oct. 22, 2024 | 060421
Ventura | Unincorporated Areas of Ventura County (24-09-0380P) | The Honorable Kelly Long, Chair, Board of Supervisors, Ventura County, 1203 Flynn Road, Suite 220, Camarillo, CA 93012 | Ventura County, Public Works Agency, 800 South Victoria Avenue, Ventura, CA 93009 | https://msc.fema.gov/portal/advanceSearch | Nov. 4, 2024 | 060413
Yolo | City of Winters (23-09-1251P) | The Honorable Bill Biasi, Mayor, City of Winters, 318 1st Street, Winters, CA 95694 | City Hall, 318 1st Street, Winters, CA 95694 | https://msc.fema.gov/portal/advanceSearch | Oct. 10, 2024 | 060425
Yolo | Unincorporated Areas of Yolo County (23-09-0598P) | The Honorable Lucas Frerichs, Chair, Board of Supervisors, Yolo County, 625 Court Street, Room 204, Woodland, CA 95695 | Yolo County, Department of Planning and Public Works, 292 West Beamer Street, Woodland, CA 95695 | https://msc.fema.gov/portal/advanceSearch | Sep. 19, 2024 | 060423
Yolo | Unincorporated Areas of Yolo County (23-09-1251P) | The Honorable Angel Barajas, Chair, Board of Supervisors, Yolo County, 625 Court Street, Woodland, CA 95695 | Yolo County, Department of Planning and Public Works, 292 West Beamer Street, Woodland, CA 95695 | https://msc.fema.gov/portal/advanceSearch | Oct. 10, 2024 | 060423
Florida: Lake | City of Leesburg (24-04-2358P) | The Honorable Jimmy Burry, Mayor, City of Leesburg, City Hall, 501 West Meadow Street, Leesburg, FL 34748 | Public Works Department, 220 South 14th Street, Leesburg, FL 34748 | https://msc.fema.gov/portal/advanceSearch | Oct. 28, 2024 | 120136
Idaho: Ada | City of Boise (23-10-0877P) | The Honorable Lauren McLean, Mayor, City of Boise, P.O. Box 500, Boise, ID 83701 | City Hall, 150 North Capitol Boulevard, 2nd Floor, Boise, ID 83701 | https://msc.fema.gov/portal/advanceSearch | Oct. 31, 2024 | 160002
Indiana
Johnson | Unincorporated Areas of Johnson County (23-05-1894P) | The Honorable Brian Baird, Chair, Johnson County Board of Commissioners, 86 West Court Street, Franklin, IN 46131 | Johnson County Courthouse Annex Building, 86 West Court Street, Franklin, IN 46131 | https://msc.fema.gov/portal/advanceSearch | Oct. 4, 2024 | 180111
Monroe | City of Bloomington (22-05-3348P) | The Honorable Kerry Thomson, Mayor, City of Bloomington, 401 North Morton Street, Suite 210, Bloomington, IN 47404 | Planning Department, 401 North Morton Street, Bloomington, IN 47402 | https://msc.fema.gov/portal/advanceSearch | Sep. 16, 2024 | 180169
Monroe | Unincorporated Areas of Monroe County (22-05-3348P) | The Honorable Julie Thomas, President, Monroe County Board of Commissioners, 100 West Kirkwood Avenue, Room 323, Bloomington, IN 47404 | Monroe County Planning Department, 501 North Morton Street, Suite 224, Bloomington, IN 47404 | https://msc.fema.gov/portal/advanceSearch | Sep. 16, 2024 | 180444
Shelby | City of Shelbyville (24-05-0650P) | The Honorable Scott Furgeson, Mayor, City of Shelbyville, 44 West Washington Street, Shelbyville, IN 46176 | Planning Commission, 44 West Washington Street, Shelbyville, IN 46176 | https://msc.fema.gov/portal/advanceSearch | Nov. 4, 2024 | 180236
Shelby | Unincorporated Areas of Shelby County (24-05-0650P) | Don Parker, County Commissioner President, Shelby County, 25 West Polk Street, Room 206, Shelbyville, IN 46176 | Shelby County Plan Commission, 25 West Polk Street, Shelbyville, IN 46176 | https://msc.fema.gov/portal/advanceSearch | Nov. 4, 2024 | 180235
Michigan:
Berrien | Charter Township of Benton (24-05-0176P) | Cathy Yates, Supervisor, Charter Township of Benton, 1725 Territorial Road, Benton Harbor, MI 49022 | Township Office, 1725 Territorial Road, Benton Harbor, MI 49022 | https://msc.fema.gov/portal/advanceSearch | Sep. 11, 2024 | 260031
Berrien | Charter Township of St. Joseph (24-05-0176P) | Roger Seely, Supervisor, Charter Township of St. Joseph, 3000 Washington Avenue, St. Joseph, MI 49085 | Township Hall, 3000 Washington Avenue, St. Joseph, MI 49085 | https://msc.fema.gov/portal/advanceSearch | Sep. 11, 2024 | 260045
Berrien | City of Benton Harbor (24-05-0176P) | The Honorable Marcus Muhammad, Mayor, City of Benton Harbor, 200 East Wall Street, Benton Harbor, MI 49022 | City Hall, 200 East Wall Street, Benton Harbor, MI 49022 | https://msc.fema.gov/portal/advanceSearch | Sep. 11, 2024 | 260032
Berrien | City of St. Joseph (24-05-0176P) | The Honorable Brook Thomas, Mayor, City of St. Joseph, 700 Broad Street, St. Joseph, MI 49085 | City Hall, 700 Broad Street, St. Joseph, MI 49085 | https://msc.fema.gov/portal/advanceSearch | Sep. 11, 2024 | 260044
Van Buren | Township of Covert (23-05-2389P) | Daywi Cook, Township Supervisor Township of Covert, 73943 East Lake Street, Covert, MI 49043 | Township Hall, 73943 East Lake Street, Covert, MI 49043 | https://msc.fema.gov/portal/advanceSearch | Oct. 21, 2024 | 260259
Minnesota:
Stearns | City of Melrose (23-05-2796P) | The Honorable Joe Finken, Mayor, City of Melrose, P.O. Box 216, Melrose, MN 56352 | Administration Office, 225 East 1st Street North, Melrose, MN 56352 | https://msc.fema.gov/portal/advanceSearch | Sep. 26, 2024 | 270450
Stearns | Unincorporated Areas of Stearns County (23-05-2796P) | Tarryl Clark, County Commissioner Chair, Stearns County, 705 Courthouse Square, St. Cloud, MN 56303 | Stearns County Administration Center, 705 Courthouse Square, St. Cloud, MN 56303 | https://msc.fema.gov/portal/advanceSearch | Sep. 26, 2024 | 270546
Wilkin | City of Nashua (23-05-2401P) | The Honorable Darin Raguse, Mayor, City of Nashua, 613 County Road 19, Nashua, MN 56522 | City Hall, 613 County Road 19, Nashua, MN 56522 | https://msc.fema.gov/portal/advanceSearch | Oct. 3, 2024 | 270918
Nevada:
Clark | City of Henderson (23-09-1085P) | The Honorable Michelle Romero, Mayor, City of Henderson, City Hall, 240 South Water Street, Henderson, NV 89015 | Public Works Department, 240 South Water Street, Henderson, NV 89015 | https://msc.fema.gov/portal/advanceSearch | Oct. 3, 2024 | 320005
Clark | City of Henderson (24-09-0528P) | The Honorable Michelle Romero, Mayor, City of Henderson, City Hall, 240 South Water Street, Henderson, NV 89015 | Public Works Department, 240 South Water Street, Henderson, NV 89015 | https://msc.fema.gov/portal/advanceSearch | Sep. 30, 2024 | 320005
New York:
Erie | Town of Orchard Park (23-02-0681P) | Eugene Majchrzak, Supervisor, Town of Orchard Park, 4295 South Buffalo Street, Orchard Park, NY 14127 | Village Hall, 4295 South Buffalo Street, Orchard Park, NY 14127 | https://msc.fema.gov/portal/advanceSearch | Nov. 21, 2024 | 360255
New Herkimer | Village of Dolgeville (23-02-0219P) | The Honorable Mary E. Puznowski, Mayor, Village of Dolgeville, 41 North Main Street, Dolgeville, NY 13329 | Village Hall, 41 North Main Street, Dolgeville, NY 13329 | https://msc.fema.gov/portal/advanceSearch | Nov. 21, 2024 | 360301
Ohio:
Butler | City of Fairfield(23-05-2358P) | The Honorable Mitch Rhodus, Mayor, City of Fairfield, 5350 Pleasant Avenue, Fairfield, OH 45014 | City Hall, 5350 Pleasant Avenue, Fairfield, OH 45014 | https://msc.fema.gov/portal/advanceSearch | Oct. 31, 2024 | 390038
Butler | City of Hamilton (23-05-2358P) | The Honorable Pat Moeller, Mayor, City of Hamilton, 345 High Street, Suite 780, Hamilton, OH 45011 | Department of Community Development, Planning Division, 345 High Street, Suite 370, Hamilton, OH 45011 | https://msc.fema.gov/portal/advanceSearch | Oct. 31, 2024 | 390039
Butler | Unincorporated Areas of Butler County (23-05-2358P) | Cindy Carpenter, President, Butler County Board of Commissioners, Government Services Center, 315 High Street, 6th Floor, Hamilton, OH 45011 | Butler County Administrative Center Building and Zoning Department, 130 High Street, 1st Floor, Hamilton, OH 45011 | https://msc.fema.gov/portal/advanceSearch | Oct. 31, 2024 | 390037
Warren | City of Mason (23-05-2046P) | The Honorable Diana K. Nelson, CPA, Mayor, City of Mason, 6000 Mason Montgomery Road, Mason, OH 45040 | Municipal Building, 6000 Mason Montgomery Road, Mason, OH 45040 | https://msc.fema.gov/portal/advanceSearch | Sep. 23, 2024 | 390559
Oregon: Marion | City of Salem (23-10-0633P) | The Honorable Chris Hoy, Mayor, City of Salem, City Council, 555 Liberty Street Southeast, Room 220, Salem, OR 97301 | City Hall, 555 Liberty Street Southeast, Room 325, 130 High Street, 1st Floor, Salem, OR 97301 | https://msc.fema.gov/portal/advanceSearch | Nov. 4, 2024 | 410167
Texas:
Dallas | City of Dallas (23-06-1171P) | The Honorable Eric L. Johnson, Mayor, City of Dallas, 1500 Marilla Street, Suite 5EN, Dallas, TX 75201 | Department of Public Works, 320 East Jefferson Boulevard, Room 321, Dallas, TX 75203 | https://msc.fema.gov/portal/advanceSearch | Aug. 16, 2024 | 480171
La Salle | City of Cotulla (24-06-0886P) | The Honorable Javier Garcia, Mayor, City of Cotulla, 117 North Front Street, Cotulla, TX 78014 | City Hall, 117 North Front Street, Cotulla, TX 78014 | https://msc.fema.gov/portal/advanceSearch | Oct. 18, 2024 | 480431
Wharton | City of El Campo (23-06-0517P) | The Honorable Chris Barbee, Mayor, City of El Campo, 315 East Jackson Street, El Campo, TX 77437 | City Hall, 315 East Jackson Street, El Campo, TX 77437 | https://msc.fema.gov/portal/advanceSearch | Sep. 30, 2024 | 480653
Wharton | Unincorporated Areas of Wharton County (23-06-0517P) | Phillip Spenrath, County Judge, Wharton County, 100 South Fulton Street, Suite 100, Wharton, TX 77488 | Wharton County Courthouse Annex, 315 East Milam, Suite 102, Wharton, TX 77488 | https://msc.fema.gov/portal/advanceSearch | Sep. 30, 2024 | 480652
Washington:
Kittitas | City of Ellensburg (24-10-0037P) | The Honorable Rich Elliott, Mayor, City of Ellensburg, City Hall, 501 North Anderson Street, Ellensburg, WA 98926 | City Hall, 501 North Anderson Street, Ellensburg, WA 98926 | https://msc.fema.gov/portal/advanceSearch | Oct. 16, 2024 | 530234
Kittitas | Unincorporated Areas of Kittitas County (24-10-0037P) | Laura Osiadacz, Chair, Board of Commissioners, Kittitas County, 205 West 5th Avenue, Suite 108, Ellensburg, WA 98926 | Kittitas County Department of Public Works, 411 North Ruby Street Suite 1, Ellensburg, WA 98926 | https://msc.fema.gov/portal/advanceSearch | Oct. 16, 2024 | 530095
Wisconsin: Kenosha | Village of Somers (24-05-0107P) | George Stoner, President, Village of Somers, P.O. Box 197, Kenosha, WI 53171 | Village Hall, 7511 12th Street, Kenosha, WI 53144 | https://msc.fema.gov/portal/advanceSearch | Aug. 29, 2024 | 550406

[FR Doc. 2024-16957 Filed 7-31-24; 8:45 am]

BILLING CODE 9110-12-P